DEPARTMENT OF AGRICULTURE

Foreign Agricultural Service

Trade Adjustment Assistance for Farmers

AGENCY: Foreign Agricultural Service, USDA.

ACTION: Notice.

The Administrator, Foreign Agricultural Service (FAS), certified a petition for trade adjustment assistance (TAA) that was filed on October 8, 2003, by the Catfish Farmers of America, Indianola, Mississippi; Rutledge & Rutledge, Newport, Arkansas; and the Western Regional Chapter of the Kentucky Aquaculture Association, Farmington, Kentucky, on behalf of catfish producers in the states of Alabama, Arkansas, Florida, Georgia, Idaho, Illinois, Kansas, Kentucky, Louisiana, Mississippi, Missouri, Nevada, North Carolina, Ohio, Oklahoma, South Carolina, Texas, and Utah. Producers are now eligible to apply for program benefits.

SUPPLEMENTARY INFORMATION: Upon investigation, the Administrator determined that increased imports of catfish and fillets of Vietnamese basa and tra contributed importantly to a decline in producer prices of farm-raised catfish in the above states by 20.9 percent during January 2002 through December 2002, when compared with the previous 5-year average.

Catfish farmers certified as eligible for TAA may apply to the Farm Service Agency for benefits through February 16, 2004. After submitting completed applications, producers shall receive technical assistance provided by the Extension Service at no cost and an adjustment assistance payment, if certain program criteria are met.

Producers of raw agricultural commodities wishing to learn more about TAA and how they may apply should contact the Department of Agriculture at the addresses provided below for General Information.

Producers Certified as Eligible for TAA, Contact: The Farm Service Agency service centers in your respective state.

For General Information about TAA, Contact: Jean-Louis Pajot, Coordinator, Trade Adjustment Assistance for Farmers, FAS, USDA, (202) 720-2916, e-mail: trade.adjustment@fas.usda.gov.

Dated: November 14, 2003.
A. Ellen Terpstra,
Administrator, Foreign Agricultural Service.

[FR Doc. 03-29398 Filed 11-24-03; 8:45 am]

BILLING CODE 3410-10-M